DEPARTMENT OF LABOR

Employment and Training Administration

Employment and Training Administration (ETA) Program Year (PY) 2021; Workforce Innovation and Opportunity Act (WIOA) Section 167, National Farmworker Jobs Program (NFJP) Grantee Allotments

AGENCY: Employment and Training Administration, Labor.

ACTION: Notice.

SUMMARY: This Notice announces Program Year (PY) 2021 allotments to States for the National Farmworker Jobs Program (NFJP), which is authorized under the Workforce Innovation and Opportunity Act (WIOA), Section 167. These allotments are based on the funds appropriated in the Consolidated Appropriations Act, 2021 (from this point forward will be referred to as the “the Act”).

DATES: The PY 2021 NFJP allotments become effective for the grant period that begins July 1, 2021.

ADDRESSES: Questions on this notice can be submitted to the Employment and Training Administration, Office of Workforce Investment, Attention at: NFJP@dol.gov.

FOR FURTHER INFORMATION CONTACT: Laura Ibañez, Unit Chief, at (202) 693-3645. Individuals with hearing or speech impairments may access the telephone numbers above via TTY by calling the toll-free Federal Information Relay Service at 1-877-889-5627 (TTY-TDD).

SUPPLEMENTARY INFORMATION: This notice is published according to Section 182(d) of the WIOA, Prompt Allotment of Funds. ETA developed the formula to distribute funds geographically by state service area, based on each state service area's relative share of persons eligible for the program. The formula's original methodology is described in the Federal Register notice 64 FR 27390, May 19, 1999. That information is accessible at https://www.federalregister.gov/. In PY 2018, ETA incorporated two modifications to the allotment formula to provide more accurate estimates of each state service area's relative share of persons eligible for the program. The formula also used updated data from each of the four data files serving as the basis of the formula since 1999. The revised formula methodology is described in the Federal Register notice 83 FR 32151, July 11, 2018.

Two modifications were incorporated into the formula for PY 2021. These modifications improve the formula's accuracy in terms of estimating the true NFJP-eligible population in state service areas, and one of the modifications is necessitated by a recent statutory change to the NFJP eligibility criteria, which Congress enacted in the FY 2021 appropriation. Section II includes further explanation of these modifications.

This notice represents the final of a two-stage process. ETA published a notice requesting public comments on May 10, 2021, regarding the formula methodology and modifications. Additionally, ETA hosted a webinar on May 5, 2021, to share the preliminary allotments, explained the data sources, and encourage response to the notice published shortly thereafter. ETA did not receive any comments through the public comment process. In this final stage, ETA is publishing the final formula and final allotment levels.

I. Background

The Department is announcing the final PY 2021 allotments for the National Farmworker Jobs Program (NFJP). This notice provides information on the amount of funds available during PY 2021 to state service areas awarded grants through Funding Opportunity Announcements FOA-ETA-20-08 and FOA-ETA-20-08-A for the NFJP Career Services and Training grants and Housing grants. Funds to implement NFJP are appropriated in the Act. In appropriating these funds, Congress provided $87,083,000 for formula grants (of which $86,946,000 was allotted after $137,000 was set aside for program integrity), $6,256,000 for migrant and seasonal farmworker housing (of which not less than 70 percent shall be for permanent housing), and another $557,000 for discretionary purposes. Included below is the table listing the PY 2021 allotments for the NFJP Career Services and Training grants. Individual grants are awarded for Housing as a result of the grants competition and are further distributed according to language in the appropriations law requiring that of the total amount available, not less than 70 percent shall be allocated to permanent housing activities, leaving not more than 30 percent to temporary housing activities.

II. Description of Data Files and Review of PY 2021 Modifications to the Allotment Formula

As with all state planning estimates since 1999, the PY 2021 estimates are based on four data sources: (1) State-level, 2017 hired farm labor expenditure data from the United States Department of Agriculture's (USDA) Census of Agriculture (COA); (2) regional-level, 2017 average hourly earnings data from the USDA's Farm Labor Survey; (3) regional-level, 2010-2018 demographic data from the ETA's National Agricultural Workers Survey (NAWS); and, (4) 2015-2019 (5-year file) data from the United States Census Bureau's American Community Survey (ACS). A detailed description of how each data source is used within the formula is in the Federal Register notice 64 FR 27390, May 19, 1999). In addition to populating the formula with updated data, ETA incorporated two modifications that will improve the formula's accuracy in terms of estimating the true NFJP-eligible population in state service areas. One of the modifications is necessitated by the change to the NFJP eligibility criteria applicable to the PY 2021 appropriation.

(1) First, the Act expands program eligibility for grants funded by the PY 2021 appropriation to include farmworkers who are in families with total family incomes at or below 150 percent of the poverty line. Therefore, the PY 2021 allocations used special tabulations of data from the ACS and the NAWS to estimate the share of farmworkers with total family incomes at or below 150 percent of the poverty line. ETA will subsequently revise the PY 2022 guidance regarding the definition of “low-income individual,” as needed if the same provision is not included in subsequent appropriations.

(2) Second, and to more closely align the formula with the definition of eligible migrant and seasonal farmworker under WIOA Section 167(i) and 20 CFR 685.110 and clarified in the Training and Employment Guidance Letter 18-16, ETA modified how the formula accounts for crop workers who are primarily employed in agriculture. This formula considers a crop worker to be primarily employed in agriculture if at least 50 percent of their total individual income is from farm work or at least 50 percent of their total employment time is in farm work.¹ As with all state planning estimates since 1999, ETA used NAWS data to determine the share of crop labor hours in each state that was performed by crop workers who were primarily employed in agriculture, per this eligibility criterion.

¹ To determine “primarily employed in agriculture” criteria, which has two parts, ETA uses individual income from farm work.

III. Description of the Hold-Harmless Provision

ETA has incorporated the hold-harmless provision as instituted in PY 2018. The updated data resulted in significant changes for a few states and the hold-harmless provision provides for a stop loss/stop gain limit to transition to the use of the updated data. This approach is based on a state service area's previous year's allotment percentage, which is its relative share of the total formula allotments. ETA will implement the staged transition of the hold-harmless provision as follows:

(1) In PY 2021, each state service area will receive an amount equal to at least 95 percent of their PY 2020 allotment percentage, as applied to the PY 2021 formula funds available;

(2) In PY 2022, each state service area will receive an amount equal to at least 90 percent of their PY 2021 allotment percentage, as applied to the PY 2022 formula funds available;

(3) In PY 2023, each state service area will receive an amount equal to at least 85 percent of their PY 2022 allotment percentage, as applied to the PY 2023 formula funds available.

In PY 2021, 2022, and 2023, the stop gain provision provides that no state service area will receive an amount that is more than 150 percent of their previous year's allotment percentage.

In PY 2024, since the Department has a responsibility to use the most current and reliable data available, amounts for the new awards will be based on updated data from the sources described in Section II, pending their availability. At that time, the Department will determine whether the changes to state allotments are significant enough to warrant another hold-harmless provision. Otherwise, allotments to each state service area will be for an amount resulting from a direct allotment of the funding formula without adjustment.

IV. Minimum Funding Provisions

A state area that would receive less than $60,000 by application of the formula will, at the option of the DOL, receive no allotment or, if practical, be combined with another adjacent state area. Funding below $60,000 is deemed insufficient for sustaining an independently administered program. However, if practical, a state jurisdiction that would receive less than $60,000 may be combined with another adjacent state area.

V. Program Year 2021 State Allotments

The state allotments set forth in the Table appended to this notice reflect the distribution resulting from the allotment formula described above. For PY 2020, $85,229,000 was appropriated for migrant and seasonal farmworker training grants and allotted based on the PY 2018 formula updates. The figures in the first numerical column show the actual PY 2020 formula allotments to state service areas. The next column shows the percentage share of each allotment to the total available.

For PY 2021, the funding level provided for in the Act for the migrant and seasonal farmworker program is $93,896,000 of which $87,083,000 was appropriated for training grants. After allowable funds are set aside for program integrity ($137,000), the Department will allot $86,946,000 for training grants based on the formula and data outlined in this notice. For purposes of illustrating the effects of the updates to the allotment formula, columns 3 and 4 show the state service area allotments with the application of the first-year (95 percent) hold-harmless and minimum funding provisions, followed by the percentages. The difference between PY 2021 and PY 2020 allotments is shown in column 5. Column 6 of the Table shows the allotments based on the formula without the application of the hold-harmless or minimum funding provisions. The percentages are reported in column 7.

U.S. Department of Labor, Employment and Training Administration, National Farmworker Jobs Program—Career Services and Training Grants
[Impact of final PY 2021 allotments to states]
State | PY 2020: Allotment | PY 2020: Percentage share | PY 2021: With hold harmless: Allotment | PY 2021: With hold harmless: Percentage share | PY 2021: With hold harmless: Difference (PY 2021 vs. PY 2020) | PY 2021: Without hold harmless: Allotment | PY 2021: Without hold harmless: Percentage share
| (1) | (2) | (3) | (4) | (5) | (6) | (7)
Total | $85,229,000 | 100.00000 | $86,946,000 | 100.00000 | $1,717,000 | $86,946,000 | 100.00000
Alabama | 801,605 | 0.94053 | 776,866 | 0.89350 | (24,739) | 774,531 | 0.89082
Alaska |  | 0.00000 |  | 0.00000 |  |  | 0.00000
Arizona | 2,538,153 | 2.97804 | 2,459,822 | 2.82914 | (78,331) | 2,547,948 | 2.93049
Arkansas | 1,144,067 | 1.34234 | 1,193,276 | 1.37243 | 49,209 | 1,262,754 | 1.45234
California | 23,333,261 | 27.37714 | 22,613,160 | 26.00828 | (720,101) | 23,114,407 | 26.58478
Colorado | 1,347,060 | 1.58052 | 1,662,689 | 1.91232 | 315,629 | 1,759,499 | 2.02367
Connecticut | 402,388 | 0.47213 | 501,264 | 0.57652 | 98,876 | 530,450 | 0.61009
Delaware | 155,864 | 0.18288 | 154,593 | 0.17780 | (1,271) | 163,594 | 0.18816
Dist of Columbia |  | 0.00000 |  | 0.00000 |  |  | 0.00000
Florida | 3,763,684 | 4.41597 | 3,647,531 | 4.19517 | (116,153) | 3,159,183 | 3.63350
Georgia | 1,671,697 | 1.96142 | 1,656,566 | 1.90528 | (15,131) | 1,753,019 | 2.01622
Hawaii | 322,061 | 0.37788 | 312,122 | 0.35898 | (9,939) | 157,635 | 0.18130
Idaho | 1,777,707 | 2.08580 | 2,194,625 | 2.52412 | 416,918 | 2,322,406 | 2.67109
Illinois | 1,746,897 | 2.04965 | 1,829,288 | 2.10394 | 82,391 | 1,935,797 | 2.22644
Indiana | 1,145,731 | 1.34430 | 1,229,140 | 1.41368 | 83,409 | 1,300,706 | 1.49599
Iowa | 1,588,068 | 1.86330 | 1,756,778 | 2.02054 | 168,710 | 1,859,065 | 2.13818
Kansas | 1,220,211 | 1.43169 | 1,243,435 | 1.43012 | 23,224 | 1,315,834 | 1.51339
Kentucky | 1,044,219 | 1.22519 | 1,011,993 | 1.16393 | (32,226) | 836,164 | 0.96170
Louisiana | 798,040 | 0.93635 | 782,626 | 0.90013 | (15,414) | 828,194 | 0.95254
Maine | 328,886 | 0.38589 | 408,044 | 0.46931 | 79,158 | 431,802 | 0.49663
Maryland | 386,681 | 0.45370 | 521,061 | 0.59929 | 134,380 | 551,400 | 0.63419
Massachusetts | 364,444 | 0.42761 | 512,780 | 0.58977 | 148,336 | 542,637 | 0.62411
Michigan | 2,129,494 | 2.49856 | 2,073,573 | 2.38490 | (55,921) | 2,194,306 | 2.52376
Minnesota | 1,629,902 | 1.91238 | 1,579,601 | 1.81676 | (50,301) | 1,664,564 | 1.91448
Mississippi | 1,026,761 | 1.20471 | 995,074 | 1.14447 | (31,687) | 922,368 | 1.06085
Missouri | 985,363 | 1.15614 | 1,219,415 | 1.40250 | 234,052 | 1,290,415 | 1.48416
Montana | 628,528 | 0.73746 | 699,452 | 0.80447 | 70,924 | 740,177 | 0.85131
Nebraska | 1,295,534 | 1.52006 | 1,255,552 | 1.44406 | (39,982) | 1,319,642 | 1.51777
Nevada | 190,893 | 0.22398 | 223,924 | 0.25754 | 33,031 | 236,962 | 0.27254
New Hampshire | 115,590 | 0.13562 | 145,953 | 0.16787 | 30,363 | 154,451 | 0.17764
New Jersey | 602,990 | 0.70749 | 769,856 | 0.88544 | 166,866 | 814,680 | 0.93700
New Mexico | 1,049,022 | 1.23083 | 1,067,856 | 1.22818 | 18,834 | 1,130,032 | 1.29969
New York | 1,574,968 | 1.84793 | 2,169,172 | 2.49485 | 594,204 | 2,295,471 | 2.64011
North Carolina | 2,638,326 | 3.09557 | 2,556,903 | 2.94079 | (81,423) | 2,107,580 | 2.42401
North Dakota | 828,016 | 0.97152 | 802,462 | 0.92294 | (25,554) | 778,997 | 0.89595
Ohio | 1,417,710 | 1.66341 | 1,437,210 | 1.65299 | 19,500 | 1,520,892 | 1.74924
Oklahoma | 1,007,381 | 1.18197 | 976,292 | 1.12287 | (31,089) | 926,713 | 1.06585
Oregon | 2,447,454 | 2.87162 | 2,371,922 | 2.72804 | (75,532) | 2,335,380 | 2.68601
Pennsylvania | 1,485,920 | 1.74344 | 1,762,208 | 2.02678 | 276,288 | 1,864,813 | 2.14479
Puerto Rico | 2,420,800 | 2.84035 | 2,346,090 | 2.69833 | (74,710) | 2,043,240 | 2.35001
Rhode Island | 60,713 | 0.07124 | 64,858 | 0.07460 | 4,145 | 68,635 | 0.07894
South Carolina | 811,276 | 0.95188 | 786,239 | 0.90428 | (25,037) | 695,074 | 0.79943
South Dakota | 610,598 | 0.71642 | 665,710 | 0.76566 | 55,112 | 704,471 | 0.81024
Tennessee | 894,737 | 1.04980 | 867,124 | 0.99731 | (27,613) | 631,232 | 0.72600
Texas | 5,281,950 | 6.19736 | 5,118,941 | 5.88749 | (163,009) | 4,630,482 | 5.32570
Utah | 466,894 | 0.54781 | 653,979 | 0.75217 | 187,085 | 692,057 | 0.79596
Vermont | 185,768 | 0.21796 | 204,723 | 0.23546 | 18,955 | 216,643 | 0.24917
Virginia | 1,002,595 | 1.17635 | 971,653 | 1.11754 | (30,942) | 784,640 | 0.90245
Washington | 4,518,313 | 5.30138 | 4,510,391 | 5.18758 | (7,922) | 4,773,008 | 5.48962
West Virginia | 155,408 | 0.18234 | 150,612 | 0.17322 | (4,796) | 112,164 | 0.12900
Wisconsin | 1,639,775 | 1.92396 | 1,719,060 | 1.97716 | 79,285 | 1,819,152 | 2.09228
Wyoming | 245,597 | 0.28816 | 312,536 | 0.35946 | 66,939 | 330,734 | 0.38039

Suzan G. LeVine,
Principal Deputy Assistant Secretary, Employment and Training, Labor.

[FR Doc. 2021-12604 Filed 6-15-21; 8:45 am]

BILLING CODE 4510-FN-P